OFFICE OF MANAGEMENT AND BUDGET

Draft Federal Grants Management Data Standards for Feedback

AGENCY: Office of Management and Budget.

ACTION: Notice.

SUMMARY: In March 2018, the Office of Management and Budget launched the President's Management Agenda (PMA). The PMA established a Cross-Agency Priority (CAP) goal titled: “Results-Oriented Accountability for Grants”. This notice is meant to notify the public of the opportunity to provide input on proposed grants management common data standards that have been created in support of the Results-Oriented Accountability for Grants CAP goal.

DATES: Comments must be received on or before January 15, 2019.

ADDRESSES: Interested parties should provide comments at the following link: www.grantsfeedback.cfo.gov. All comments received may be posted without change, including any personal information provided. Do not submit confidential business information, trade secret information, or other sensitive or protected information that you do not want to be available to the public.

FOR FURTHER INFORMATION CONTACT: Jeannette M. Mandycz, Office of Federal Financial Management, OMB, Jeannette.M.Mandycz@omb.eop.gov, or 202-395-5009.

SUPPLEMENTARY INFORMATION: In March 2018, OMB launched the President's Management Agenda (PMA). The PMA lays out a long-term vision for modernizing the Federal Government in key areas that will improve the ability of agencies to deliver mission outcomes, provide excellent service, and effectively steward taxpayer dollars on behalf of the American people. The PMA established a Cross-Agency Priority (CAP) goal titled “Results-Oriented Accountability for Grants” with the intent to rebalance grants compliance efforts with a focus on results for the American taxpayer; standardizing grant reporting data, and improving data collection in ways that will increase efficiency, promote evaluation, reduce reporting burden, and benefit the American taxpayer. Additional details regarding the CAP goal can be found at: https://www.performance.gov/CAP/CAP_goal_8.html.

In order to bring grants management into the digital age and allow recipients to focus more time on performing work that delivers results, there is a need to develop and implement core grants management data standards and modernize grants management information technology solutions. In support of this goal, a draft of core grants management data standards have been developed and are now available for your review. Once finalized, the core grants management data standards will contribute to a future state where grants data are interoperable, there are fewer internal and public-facing grants management systems, and Federal awarding agencies and recipients can leverage data to successfully implement a risk-based, data-driven approach to managing Federal grants. A draft of the proposed grants management common data standards are available for your review and input at www.grantsfeedback.cfo.gov. The comment period will be open until January 15, 2019.

Timothy F. Soltis,
Deputy Controller.

[FR Doc. 2018-24927 Filed 11-15-18; 8:45 am]

BILLING CODE 3110-01-P